Title 3—

The President

Presidential Determination No. 2014-07 of January 17, 2014

Proposed Third Amendment to the Agreement for Co-operation Between the United States of America and the International Atomic Energy Agency

Memorandum for the Secretary of State [and] the Secretary of Energy

I have considered the proposed Third Amendment to the Agreement for Co-operation Between the United States of America and the International Atomic Energy Agency, signed at Vienna on May 11, 1959, as amended and extended February 12, 1974, and January 14, 1980, along with the views, recommendations, and statements of the interested agencies.

I have determined that the performance of the Third Amendment will promote, and will not constitute an unreasonable risk to, the common defense and security. Pursuant to section 123 b. of the Atomic Energy Act of 1954, as amended (42 U.S.C. 2153(b)), I hereby approve the proposed Third Amendment and authorize the Secretary of State to arrange for its execution.

The Secretary of State is authorized to publish this determination in the Federal Register.

THE WHITE HOUSE,

Washington, January 17, 2014

[FR Doc. 2014-01818

Filed 1-27-14; 11:15 am]

Billing code 4710-10